DEPARTMENT OF THE INTERIOR

Bureau of Land Management

[LLCAD06000 L51010000.ER0000 LVRWB18B5480 18X; MO 4500126502]

Notice of Availability of the Record of Decision for the EDF Renewable Energy Palen Solar Photovoltaic Project Riverside County, California

AGENCY: Bureau of Land Management, Interior

ACTION: Notice of availability.

SUMMARY: In accordance with the National Environmental Policy Act of 1969, as amended (NEPA), and the Federal Land Policy and Management Act of 1976, as amended (FLPMA), the Bureau of Land Management (BLM) has prepared a Record of Decision (ROD) to Authorize a Right-of-Way (ROW) and amend the California Desert Conservation Area Plan (CDCA Plan) for the EDF Renewable Energy Palen Solar Photovoltaic Project, and by this Notice is announcing its availability. The Assistant Secretary—Land and Minerals Management (ASLM) signed the ROD on October 29, 2018, which constitutes the final decision of the Department, and makes the Approved Land Use Plan Amendment to the CDCA Plan and authorization of a ROW effective immediately. This decision is not subject to appeal under Departmental regulations, and any challenge to this decision, including the BLM Authorized Officer's issuance of the ROW as directed by this decision, must be brought in Federal district court.

DATES: The ASLM signed the ROD on October 29, 2018.

ADDRESSES: Copies of the ROD are available for public inspection at the BLM-Palm Springs-South Coast Field Office at 1201 Bird Center Dr., Palm Springs, CA 92262 and at the BLM-California Desert District Office, 22835 Calle San Juan de Los Lagos, Moreno Valley, CA 92553. Interested persons may also review the ROD on the internet at: http://goo.gl/5nkFMG.

FOR FURTHER INFORMATION CONTACT: Mark DeMaio, BLM Project Manager, telephone (760) 833-7100; address, Bureau of Land Management, Palm Springs-South Coast Field Office, 1201 Bird Center Drive, Palm Springs, CA 92262; or email palensolar@blm.gov.

Persons who use a telecommunications device for the deaf (TDD) may call the Federal Relay Service at (800) 877-8339 to contact the above individual during normal business hours. The FRS is available 24 hours a day, 7 days a week, to leave a message or question with the above individual. You will receive a reply during normal business hours.

SUPPLEMENTARY INFORMATION: EDF Renewable Energy has applied for a ROW from the BLM to construct, operate, maintain, and decommission a 500 megawatt (MW) solar photovoltaic facility near Desert Center, Riverside County, California. The ROW application area comprises about 4,200 acres, with a proposed project footprint of 3,381 acres. The proposed project also includes construction of a 6.7-mile single circuit 230 kilovolt generation interconnection (gen-tie) transmission line connecting the project to the Southern California Edison Red Bluff Substation. The BLM determined that an amendment to the CDCA Plan would be necessary to authorize the project. Riverside County is the lead agency under the California Environmental Quality Act (CEQA). The BLM and Riverside County prepared a joint Environmental Impact Statement/Environmental Impact Report (EIS/EIR) for compliance with NEPA and CEQA.

This Project application was originally submitted in 2007 as the Palen Solar Power Project (PSPP) by Palen Solar I LLC (PSI), a wholly owned subsidiary of Solar Millennium. The PSPP was proposed as a solar trough project and was the subject of an EIS under NEPA. The BLM, pursuant to its obligations under FLPMA and NEPA, published a draft EIS, followed by a Proposed CDCA Plan Amendment and Final EIS on May 13, 2011 (76 FR 28064). Before a Record of Decision was issued, PSI informed the BLM that it would not construct the Project due to bankruptcy. As a result, a decision was not issued, the CDCA Plan was not amended, and a ROW grant was not issued for the PSPP. On June 21, 2012, the bankruptcy court approved the transfer of the application from PSI to Palen Solar III LLC (PSIII). BrightSource Energy Inc. (BSE) then acquired all rights to PSIII at auction. PSIII submitted a revised ROW application to the BLM for the Palen Solar Electricity Generating System Project (PSEGS), a 500 MW concentrating solar power tower technology facility and single-circuit 230 kV gen-tie line. On July 27, 2013, the BLM issued a Draft Supplemental EIS and Plan Amendment to evaluate the potential additional environmental impacts caused by PSEGS. As part of the state permitting process, the California Energy Commission evaluated the PSEGS under CEQA, and issued Preliminary and Final Staff Assessments for the amended project in June and November of 2013, respectively. The BLM did not issue a Final Supplemental EIS for the PSEGS Project, because BSE and its partner, Abengoa Solar Inc., abandoned the State authorization proceedings at the California Energy Commission. In December 2015, after Abengoa Solar's partner conveyed its project interest to Abengoa, EDF Renewable Energy acquired Abengoa Solar's complete interest in the PSEGS project. EDF Renewable Energy then submitted a revised ROW application for the Proposed Project, which is analyzed in the Final Supplemental EIS/EIR and Proposed Land Use Plan Amendment underlying this ROD.

The BLM held public meetings on the revised ROW application in June and August 2016 in Palm Springs, California. On October 27, 2017, the BLM issued the Draft Supplemental EIS/EIR and Draft Land Use Plan Amendment, which analyzed the impacts of the Proposed Action and two action alternatives, in addition to a No Action Alternative. Alternative 1, Reduced Footprint, would be a 500 MW Photovoltaic (PV) array and gen-tie on about 3,140 acres. It avoids the central and largest desert wash and incorporates a more efficient use of the land for the solar array. Alternative 2, Avoidance Alternative, would be a solar PV project on about 1,620 acres (160 to 230 MW). Like the Proposed Action, under each of these alternatives, the BLM would amend the CDCA Plan to allow the project. Under the No-Action Alternative, the BLM would deny the ROW application, and would not amend the CDCA Plan to allow the project.

The Draft Supplemental EIS/EIR and Draft Land Use Plan Amendment included analysis of the revised ROW application as it related to issues such as: (1) Updated description of the Proposed Project, based on the revised ROW application; (2) Impacts to cultural resources and tribal concerns; (3) Impacts to the Sand Transport Corridor and Mojave fringe-toed lizard habitat and washes; (4) Impacts to Joshua Tree National Park; (5) Impacts to avian species; (6) Impacts to visual resources; and (7) Relationship between the Proposed Project and the CDCA Plan, including the amendment to the CDCA Plan by the 2016 Desert Renewable Energy Conservation Plan.

The Draft Supplemental EIS/EIR was released in October 2017, which included a formal 45-day public comment period. The BLM held a public meeting on November 14, 2017, in Palm Desert, CA. Fourteen individuals attended that meeting. The BLM received 40 comment letters during the comment period.

Comments on the Draft Supplemental EIS/EIR and Draft Land Use Plan Amendment received from the public and internal agency review were considered and incorporated as appropriate into the EIS/EIR analysis. These comments resulted in the addition of clarifying text, but did not result in changes in the design, location, or timing of the Project in a way that would cause significant effects to the human environment outside of the range of effects analyzed in the EIS/EIR. Similarly, none of the letters identified new significant circumstances or information relevant to environmental concerns that bear on the Project and its effects. A response to substantive comments is included in the Final Supplemental EIS/EIR and Proposed Land Use Plan Amendment, released in May 2018. The BLM selected Alternative 1, the Reduced Footprint, as the Agency Preferred Alternative in the Final Supplemental EIS/EIR and Proposed Land Use Plan Amendment. Five protests were received on the Final EIS, and the issues raised have been resolved. As a result, only minor editorial modifications were made in response to the issues raised in preparing the Approved Action. These modifications provided further clarification of some of the decision elements. The California Governor's consistency review identified no inconsistences with the Final SEIS for the Preferred Alternative.

With this ROD, the BLM adopts the Agency Preferred Alternative. The ASLM approval of this decision is not subject to administrative appeal under Departmental regulations at 43 CFR part 4 pursuant to 43 CFR 4.410(a)(3). Any challenge to this decision must be brought in Federal District Court and is subject to 42 U.S.C. 4370m-6(a)(1).

Authority: 40 CFR 1506.6; 40 CFR 1506.10; 43 CFR 1610.2; 43 CFR 1610.5; 42 U.S.C. 4370m-6(a)(1)

Brian C. Steed,
Deputy Director, Policy and Programs, Exercising the Authority of the Director.

[FR Doc. 2018-24017 Filed 11-1-18; 8:45 am]

BILLING CODE 4310-40-P